DEPARTMENT OF THE INTERIOR

Bureau of Land Management

[BLM_NV_FRN_MO# 4500180226]

Public Land Order No. 7948; Extension of Public Land Order No. 7613; Withdrawal of Public Lands for a Runway Safe Zone, Nevada

AGENCY: Bureau of Land Management, Interior.

ACTION: Public land order.

SUMMARY: This Public Land Order (PLO) extends the duration of the withdrawal created by PLO No. 7613, which would otherwise expire on August 17, 2024, for an additional 20-year period. PLO No. 7613 withdrew 40 acres of public lands from settlement, sale, location, or entry under the general land laws, including the United States mining laws, subject to valid existing rights, for a period of 20 years, for the United States Air Force to protect a runway safe zone at Nellis Air Force Base located in Las Vegas, Nevada.

DATES: This PLO takes effect on August 14, 2024.

FOR FURTHER INFORMATION CONTACT: Eric Benavides, Realty Specialist, BLM Las Vegas Field Office, at (702) 515-5144, email: ebenavides@blm.gov. Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: The purpose for which the withdrawal was first made requires this extension in order to protect a runway safe zone at Nellis Air Force Base. The lands withdrawn by PLO No. 7613 on August 18, 2004 (69 FR 51320) and serialized as N-74668 (NVNV106080782) are located wholly within Nellis Air Force Base, a secured military installation, at the northern end of an active runway; public access to these lands has been restricted since the 1950s.

Order

By virtue of the authority vested in the Secretary of the Interior by section 204 of the Federal Land Policy and Management Act of 1976, 43 U.S.C. 1714, it is ordered as follows:

1. Subject to valid existing rights, PLO No. 7613, which withdrew 40 acres of public lands from settlement, sale, location, or entry under the general land laws, including the United States mining laws, subject to valid existing rights, for the United States Air Force to protect a runway safe zone at Nellis Air Force Base, is hereby extended for an additional period of 20 years.

2. The withdrawal made by this order does not alter the applicability of those public land laws governing the use of land under lease, license, or permit, or governing the disposal of their mineral or vegetative resources other than under the mining laws.

3. This withdrawal will expire 20 years from the effective date of this Order, unless, as a result of a review conducted before the expiration date pursuant to section 204(f) of the Federal Land Policy and Management Act of 1976, 43 U.S.C. 1714(f), the Secretary determines that the withdrawal shall be extended.

(Authority: 43 U.S.C. 1714)

Robert T. Anderson,
Solicitor.

[FR Doc. 2024-18154 Filed 8-13-24; 8:45 am]

BILLING CODE 4331-21-P